DEPARTMENT OF ENERGY

Federal Energy Regulatory Commission

[Docket No. RP01-503-007]

Natural Gas Pipeline Company of America; Notice of Technical Conference

February 9, 2007.

Take notice that the Commission will convene a technical conference on Wednesday, March 14, 2007, at 10 am (EST), in a room to be designated at the offices of the Federal Energy Regulatory Commission, 888 First Street, NE., Washington DC 20426.

The technical conference will address issues raised by Natural's January 4, 2007, filing in the referenced docket related only to Natural's gas interchangeability and maximum Btu limit tariff proposals.

Natural and the other parties should be prepared to address the following topics at the technical conference:

1. Are Natural's tariff proposals consistent with the Interim Guidelines in the Natural Gas Council's White Paper on Natural Gas Interchangeability and Non-Combustion End Use?

2. To the extent Natural's proposals are not consistent with the guidelines, has Natural supported any divergence from the interim guidelines?

3. Did Natural use the appropriate methodology to determine the Wobbe index and Btu limits? If not, what methodology should Natural have used?

Any parties in this proceeding that wish to make a presentation at this technical conference should notify the Commission prior to the conference.

FERC conferences are accessible under section 508 of the Rehabilitation Act of 1973. For accessibility accommodations please send an e-mail to accessibility@ferc.gov or call toll free (866) 208-3372 (voice) or 202-20801659 (TTY), or send a FAX to 202-208-2106 with the required accommodations.

All interested persons are permitted to attend. For further information please contact Sandra Elliott at (202) 502-8694 or e-mail sandra.elliott@ferc.gov.

Magalie R. Salas,
Secretary.

[FR Doc. E7-2703 Filed 2-15-07; 8:45 am]

BILLING CODE 6717-01-P